NATIONAL AERONAUTICS AND SPACE ADMINISTRATION

[Notice (02-045)]

Notice of Prospective Patent License

AGENCY: National Aeronautics and Space Administration.

ACTION: Notice of prospective patent license.

SUMMARY: NASA hereby gives notice that Triton Systems, Inc. of 200 Turnpike Road, Chelmsford, MA 01824 has applied for an exclusive license to practice the invention described in NASA Case Number LAR-16176-1 entitled “Space Environmentally Durable Polyimides and Copolyimides” for which a U.S. Patent Application was filed and assigned to the United States of America as represented by the Administrator of the National Aeronautics and Space Administration. Written objections to the prospective grant of a license should be sent to Langley Research Center.

DATES: Responses to this notice must be received by (15) days from date of publication in the Federal Register.

FOR FURTHER INFORMATION CONTACT: Patrick F. Roughen, Jr., Patent Attorney, Langley Research Center, Mail Stop 212, Hampton, VA 23681-2199. Telephone (757) 864-9340; Fax (757) 864-9190.

Dated: March 25, 2002.
Robert M. Stephens,
Deputy General Counsel.

[FR Doc. 02-7789 Filed 3-29-02; 8:45 am]

BILLING CODE 7510-01-P